ENVIRONMENTAL PROTECTION AGENCY

[EPA-HQ-OPP-2009-1017; FRL-9384-7]

Product Cancellation Order for Certain Pesticide Registrations

AGENCY: Environmental Protection Agency (EPA).

ACTION: Notice.

SUMMARY: This notice announces EPA's order for the cancellations, voluntarily requested by the registrants and accepted by the Agency, of the products listed in Table 1 and Table 2 of Unit II., pursuant to the Federal Insecticide, Fungicide, and Rodenticide Act (FIFRA). This cancellation order follows a February 20, 2013 Federal Register Notice of Receipt of Requests from the registrants listed in Table 3 of Unit II. to voluntarily cancel these product registrations. In the February 20, 2013 notice, EPA indicated that it would issue an order implementing the cancellations, unless the Agency received substantive comments within the 30 day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The cancellations are effective as noted in Unit IV of this cancellation order.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2009-1017, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrants, of 39 products registered under FIFRA section 3. These registrations are listed in sequence by registration number in Table 1 and Table 2 of this unit.

Table 1—Product Cancellations
EPA Registration No. | Product name | Chemical name
000279-03153 | Firstline Termite Bait Station | Sulfuramid.
000279-03170 | Firstline Termite Bait Tube Station | Sulfuramid.
000279-03171 | Firstline Termite Bait Container Station | Sulfuramid.
000279-03196 | Firstline GT Plus Termite Bait Station | Sulfuramid.
000432-01334 | Tempo Liquid Concentrate | Cyfluthrin.
000432-01358 | Tempo 20% Dry Concentrate | Cyfluthrin.
000499-00518 | Prescription Treatment Brand 2% Propoxur Bait | Propoxur.
000499-00532 | TC 277 | Piperonyl butoxide, Pyrethrins (No Inert Use).
007173-00283 | Difethialone Bait Station | Difethialone.
007173-00285 | Difethialone 6G Paste Place Packs | Difethialone.
009404-00087 | Permethrin 0.25% Insecticide Granules | Permethrin.
009404-00088 | Sunniland Chinch Bug & Mole Cricket Spray | Permethrin.
039959-00001 | A-106 | Poly(oxy-1,2-ethanediyl(dimethylimino)-1,2-ethanediyl(dimethylimino)-1,2-ethanediyl dichloride.
039959-00002 | 7618 | Poly(oxy-1,2-ethanediyl(dimethylimino)-1,2-ethanediyl(dimethylimino)-1,2-ethanediyl dichloride.
039959-00003 | 7619 | Poly(oxy-1,2-ethanediyl(dimethylimino)-1,2-ethanediyl(dimethylimino)-1,2-ethanediyl dichloride.
045385-00001 | Chem-Tox Roach and Ant Spray with Baygon | Propoxur, Piperonyl butoxide, Pyrethrins (No Inert Use).
045385-00025 | Chem-Tox Pyronox Dual 0.1 | MGK 264, Piperonyl butoxide, Pyrethrins (No Inert Use).
045385-00082 | Cenol Small Animal and Kennel Spray | Piperonyl butoxide, Pyrethrins (No Inert Use).
046043-00031 | Suncoast's Pool Algaecide 20 | Poly(oxy-1,2-ethanediyl(dimethylimino)-1,2-ethanediyl(dimethylimino)-1,2-ethanediyl dichloride.
047000-00168 | R&M Permethrin Flea & Tick Dip #1 | Permethrin.
060061-00017 | Woodtreat C8 Concentrate | Copper, bis(8-quinolinolato-N1,O8)-.
060061-00018 | Woodtreat C8 Ready To Use | Copper, bis(8-quinolinolato-N1,O8)-.
060061-00022 | Woodtreat C81 Ready To Use Water Repellent Fungicide | Copper, bis(8-quinolinolato-N1,O8)-.
074601-00001 | Chlorothalonil Technical Fungicide | Chlorothalonil.
085905-00005 | CFL 3% Diflubenzuron Feedthrough | Diflubenzuron.
086869-00002 | Propiconazole Select | Propiconazole.
ME070001 | Devrinol 50-DF | Napropamide.
MI070004 | Kerb 50-W | Propyzamide.

Table 2—Oxydemeton-methyl (ODM) Product Cancellations
EPA Registration No. | Product name | Chemical name
007946-00010 | Inject-A-Cide | Oxydemeton-methyl.
010163-00219 | MSR 50% Concentrate Insecticide | Oxydemeton-methyl.
010163-00220 | MSR Spray Concentrate | Oxydemeton-methyl.
064014-00009 | Harpoon | Oxydemeton-methyl.
CA010003 | MSR Spray Concentrate | Oxydemeton-methyl.
FL960006 | Metasystox-R-Spray Concentrate | Oxydemeton-methyl.
ID010011 | Metasystox-R-Spray Concentrate | Oxydemeton-methyl.
NY030002 | Metasystox-R-Spray Concentrate | Oxydemeton-methyl.
WA030001 | Metasystox-R-Spray Concentrate | Oxydemeton-methyl.
WA030002 | Metasystox-R-Spray Concentrate | Oxydemeton-methyl.
WA060005 | MSR Spray Concentrate | Oxydemeton-methyl.

Table 3 of this unit includes the names and addresses of record for all registrants of the products in Table 1 and Table 2 of this unit, in sequence by EPA company number. This number corresponds to the first part of the EPA registration numbers of the products listed in Table 1 and Table 2 of this unit.

Table 3—Registrants of Cancelled Products
EPA Company number | Company name and address
279 | FMC Corp, Agricultural Products Group, 1735 Market St., Room 1978, Philadelphia, PA 19103.
432 | Bayer Environmental Science, 2 T.W. Alexander Dr., P.O. Box 12014, Research Triangle Park, NC 27709.
499 | Whitmore Micro-Gen Research Laboratories, Inc., Agent: BASF Corporation 3568 Tree Court Industrial Blvd., St. Louis, MO 63122-6682.
7173 | Liphatech, Inc., 3600 W. Elm St., Milwaukee, WI 53209.
7946 | J.J. Mauget Co., Agent: Scireg, Inc., 12733 Director's Loop, Woodbridge, VA 22192.
9404 | Sunniland Corporation, P.O. Box 8001, Sanford, FL 32772-8001.
10163 | Gowan Company, P.O. Box 5569, Yuma, AZ 85366-8844.
39959 | Chemicals Inc., 13560 Colombard Ct., Fontana, CA 92337.
45385 | CTX-Cenol, Inc., Agent: H.R. Mclane, Inc., 7210 Red Rd., Suite 206A, Miami, FL 33143.
46043 | Suncoast Chemicals Co., 14480 62nd St. North, Clearwater, FL 33760.
47000 | Chem-Tech, Ltd., 4515 Fleur Dr. #303, Des Moines, IA.
60061 | Kop-Coat, Inc., 3020 William Pitt Way, Pittsburgh, PA 15238.
64014 | Florida Silvics Inc., D/B/A Tree Tech Microinjection Systems, 950 SE., 215th Ave., Morriston, FL 32668.
74601 | Oxon Italia S.P.A., Agent: Lewis & Harrison, LLC, 122 C St. NW., Suite 740, Washington, D C 20001.
81880 | Canyon Group LLC, C/O Gowan Company, 370 S. Main St., Yuma, AZ 85364.
85905 | Champion Farmaquimico LTDA, Agent: J&T Associates LLC, 4061 North 156th Dr., Goodyear, AZ 85395.
86869 | Select Source, LLC., Agent: Wagner Regulatory Associates, Inc., P.O. Box 640, Hockessin, DE 19707.
88058 | Orion Ato, LLC, Agent: source Dynamics LLC, S122230 E. Del Norte, Yuma, AZ 85377-7355.
CA010003, FL960006, ID010011, NY030002, WA030001, WA030002, WA060005 | Gowan Company, P.O. Box 5569, Yuma, AZ 85366-8844.
ME070001 | United Phosphorus, Inc, 630 Freedom Business Center, Suite 402, King of Prussia, PA 19406.
MI070004 | Dow AgroSciences LLC, 9330 Zionsville Rd., 308/2E, Indianapolis, IN 46268-1054.

III. Summary of Public Comments Received and Agency Response to Comments

During the public comment period provided, EPA received no comments in response to the February 20, 2013 Federal Register notice announcing the Agency's receipt of the requests for voluntary cancellations of products listed in Table 1 and Table 2 of Unit II.

IV. Cancellation Order

Pursuant to FIFRA section 6(f), EPA hereby approves the requested cancellations of the registrations identified in Table 1 and Table 2 of Unit II. Accordingly, the Agency hereby orders that the product registrations identified in Table 1 and Table 2 of Unit II. are canceled. The effective date of the cancellation of the products listed in Table 1 of this notice is May 1, 2013. The effective date of cancellation of the products listed in Table 2 is December 31, 2014. Any distribution, sale, or use of existing stocks of the products identified in Table 1 and Table 2 of Unit II. in a manner inconsistent with any of the provisions for disposition of existing stocks set forth in Unit VI. will be a violation of FIFRA.

V. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register issue of February 20, 2013 (78 FR 11881) (FRL-9378-9). The comment period closed on March 22, 2013.

VI. Provisions for Disposition of Existing Stocks

Existing stocks are those stocks of registered pesticide products which are currently in the United States and which were packaged, labeled, and released for shipment prior to the effective date of the cancellation action. The existing stocks provisions for the products subject to this order are as follows.

1. For Products 007173-00283 and 007173-00285 identified in Table 1: Because the Agency has identified significant potential risk concerns associated with these pesticide products, EPA prohibits the sale or distribution of existing stocks by the registrant, except for export consistent with FIFRA section 17 or for proper disposal. Persons other than the registrant will be allowed to sell or distribute existing stocks of products, until such stocks are exhausted. Users will be allowed to use existing stocks regardless of the date of purchase until such stocks are exhausted, provided that such use is consistent with the terms of the previously approved labeling on, or that accompanied, the canceled product.

2. For all other products identified in Table 1: The registrants may continue to sell and distribute existing stocks of products listed in Table 1 of Unit II. until May 1, 2014, which is 1 year after the publication of the Cancellation Order in the Federal Register. Thereafter, the registrants are prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the canceled products.

3. For all products listed in Table 2: After December 31, 2014, registrants are prohibited from selling or distributing existing stocks of products containing ODM. After December 31, 2016, persons other than registrants are prohibited from selling or distributing existing stocks of products containing ODM. After December 31, 2016, existing stocks of products containing ODM already in the possession of end users can be used legally until they are exhausted, provided that such use complies with the EPA-approved label and labeling of the affected product.

List of Subjects

Environmental protection, Pesticides and pests.

Dated: April 23, 2013.
Richard P. Keigwin, Jr.,
Director, Pesticide Re-Evaluation Division, Office of Pesticide Programs.

[FR Doc. 2013-10188 Filed 4-30-13; 8:45 am]

BILLING CODE 6560-50-P